DEPARTMENT OF JUSTICE

Drug Enforcement Administration

The Church of the Living Tree; Notice of Withdrawal of Denial of Application

On November 4, 1999, the Deputy Assistant Administrator, Office of Diversion Control, Drug Enforcement Administration (DEA) issued an Order to Show Cause proposing to deny The Church of the Living Tree's application for registration as a manufacturer of the controlled substance marijuana. Effective August 18, 2000, the DEA Administrator, in his final order published in the Federal Register, 65 FR 50567, denied the application for registration, noting that The Church of the Living Tree had not responded to the Order to Show Cause.

By letter dated August 11, 2000, a representative of The Church of the Living Tree advised that he had in fact properly submitted a timely request for hearing. Photocopies of a United States Postal Service Receipt for Certified Mail and Domestic Return Receipt indicating delivery accompanied the letter.

Inasmuch as it appears that The Church of the Living Tree timely requested a hearing in this matter, the final order should not have issued. The Deputy Administrator of the Drug Enforcement Administration therefore orders that the final order published August 18, 2000, at 65 Fed. Reg. 50567 be, and it hereby is, rescinded, and this matter is hereby remanded to the Office of Administrative Law Judges, Drug Enforcement Administration, for further appropriate proceedings. This order is effective December 5, 2000.

Dated: November 21, 2000.
Julio F. Mercado,
Deputy Administrator.

[FR Doc. 00-30929 Filed 12-4-00; 8:45 am]

BILLING CODE 4410-09-M